ENVIRONMENTAL PROTECTION AGENCY

40 CFR Part 52

[EPA-R01-OAR-2009-0436; FRL-9974-69—Region 1]

Air Plan Approval; Rhode Island; Enhanced Motor Vehicle Inspection and Maintenance Program; Reopening of Comment Period

AGENCY: Environmental Protection Agency (EPA).

ACTION: Proposed rule; reopening of the public comment period.

SUMMARY: The Environmental Protection Agency (EPA) is reopening the public comment period for the proposed approval of Rhode Island's enhanced motor vehicle inspection and maintenance program State Implementation Plan (SIP) revision. The proposed rule published in the Federal Register on November 14, 2017. Written comments on the proposed rule were to be submitted to EPA on or before December 14, 2017. The purpose of this document is to reopen the comment period for an additional 30 days. This extension of the comment period is provided to allow the public additional time to provide comment on the November 14, 2017 proposed rule.

DATES: Written comments must be received on or before April 2, 2018.

ADDRESSES: Submit your comments, identified by Docket ID No. EPA-R01-OAR-2009-0436 at www.regulations.gov, or via email to garcia.ariel@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit www.epa.gov/dockets/commenting-epa-dockets. Publicly available docket materials are available at www.regulations.gov or at the U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: Ariel Garcia, Air Quality Planning Unit, U.S. Environmental Protection Agency, EPA Region 1 Regional Office, 5 Post Office Square, Suite 100 (mail code: OEP05-2), Boston, MA 02109-3912, telephone number: (617) 918-1660, email: garcia.ariel@epa.gov.

SUPPLEMENTARY INFORMATION:

Background: In the withdrawal of direct final rule published in the Federal Register on January 9, 2018 (83 FR 984), EPA stated the intent to institute an extended comment period for the November 14, 2017 proposed rule (82 FR 52682) by publishing a notice of data availability.

Extension of Comment Period: The adverse comment received on EPA's direct final rule requested that EPA hold a new public comment period, because EPA did not make all relevant documents available in the docket at www.regulations.gov. EPA has made available all documents, which are compatible with the electronic docket system, at the docket identified by Docket ID No. EPA-R01-OAR-2009-0436 at www.regulations.gov. All other documents, including emissions modeling files submitted as part of Rhode Island's enhanced motor vehicles inspection and maintenance program SIP revision, are available for public review by visiting the EPA New England Regional Office or by contacting the contact listed in the FOR FURTHER INFORMATION CONTACT section. This reopening of comment period also serves as the notice of data availability referenced in the January 9, 2018 withdrawal of direct final rule.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 21, 2018.
Alexandra Dapolito Dunn,
Regional Administrator, EPA New England.

[FR Doc. 2018-04264 Filed 3-1-18; 8:45 am]

BILLING CODE 6560-50-P